DEPARTMENT OF COMMERCE

National Oceanic and Atmospheric Administration

[Docket No. #110614333-1333-01]

Technical Inputs and Assessment Capacity on Topics Related to 2013 U.S. National Climate Assessment

AGENCY: Office of Oceanic and Atmospheric Research (OAR) National Oceanic and Atmospheric Administration (NOAA), Department of Commerce (DOC).

Request for Information: Technical Inputs and Assessment Capacity Related to Regional, Sectoral, and Cross-Cutting Assessments for the 2013 U.S. National Climate Assessment (NCA) Report and the Ongoing NCA Process.

ACTION: Request for information.

SUMMARY: This request for information (RFI) seeks comments and expressions of interest from the public in providing technical inputs and/or offering assessment capacity on topics related to National Climate Assessment (NCA) regional, sectoral, and cross-cutting topics proposed for the 2013 NCA report and the ongoing NCA process. More information on the NCA process, including the strategic plan, proposed report outline, and information about the National Climate Assessment Development and Advisory Committee (NCADAC), can be found at http://assessment.globalchange.gov.

Teams of experts and/or individuals in climate-related fields (“teams”) interested in providing inputs to the NCA are encouraged to review the “Potential Technical Inputs and Assessment Capacities” and “Suggested Best Practices” available online at http://www.globalchange.gov/what-we-do/assessment/backgroundprocess/notices and to prepare a short expression of interest (EOI) describing their anticipated inputs. All EOIs submitted in response to this notice must include a primary point of contact and contact information (phone number, mailing address, e-mail address, Web site if applicable, institutional affiliation(s) if applicable). In addition, it is recommended that EOIs include the specific NCA topic(s) of interest, a short description of the input(s) the team intends to provide, and background information about the team and sponsoring organization.

A full draft of the NCA report is anticipated by mid-2012, so that scientific and subject-matter experts and the broader public will have sufficient time to review the draft and provide comments to the NCADAC on its content. A full year is planned to review and revise the report, with a planned release in mid-2013. Technical inputs should be provided well in advance of these deadlines, with target dates for activities and inputs as follows:

• Now-Summer 2011: Expressions of interest; Initial work plans.

• Now-Fall 2011: Teams conduct activities (workshops, literature reviews, modeling runs, etc.).

• December 2011-February 1, 2012: Initial inputs, including draft reports.

• March 1, 2012: Final inputs, including full reports.

• After March 1, 2012: Continued development and delivery of ongoing assessment capacity.

While the NCADAC welcomes inputs to the NCA, it is not able to make commitments about how these inputs will be used in the 2013 NCA report. In addition, neither the US Global Change Research Program (USGCRP) nor the NCADAC are responsible for funding the work of teams that choose to provide inputs. This notice pertains only to the underlying data, reports, other technical inputs, and assessment capacities offered to the NCA, and not to the writing of the 2013 NCA report, which is under the purview of the NCADAC. Although the emphasis in this RFI is on contributions made in time for the 2013 NCA report, contributions that are not received in time for the report will be retained and may be used in the ongoing, sustained assessment process. Some assessment contributions may be specifically targeted to such an ongoing process.

All submissions will be provided to the NCADAC. Ultimately, technical inputs that are determined to meet information quality and scientific rigor standards (expected to be developed by the NCADAC in the coming months) may be posted in the publicly-accessible NCA online database. In the interim, teams are encouraged to review Federal information quality requirements (available from http://www.whitehouse.gov/sites/default/files/omb/fedreg/reproducible2.pdf ) for general guidance.

Response Instructions: General comments and expressions of interest should be submitted via e-mail to Emily Therese Cloyd, NCA Public Participation and Engagement Coordinator, at ecloyd@usgcrp.gov. The suggested format for the expressions of interest is described below.

Comments and expressions of interest may be submitted at any time and will be reviewed on a rolling basis.

Responses to this notice cannot be accepted by the government to form a binding contract or issue a grant. Information obtained as a result of this request may be used by the government for program planning on a non-attribution basis. Do not include any information that might be considered proprietary or confidential.

FOR FURTHER INFORMATION CONTACT: Any questions about the content of this request should be sent to Emily Therese Cloyd, NCA Public Participation and Engagement Coordinator, US Global Change Research Program Office, 1717 Pennsylvania Ave., NW., Suite 250, Washington, DC 20006, Telephone (202) 223-6262, Fax (202) 223-3065, e-mail ecloyd@usgcrp.gov. For more information about the NCA process, including the strategic plan, proposed report outline, and information about the NCADAC, please visit http://assessment.globalchange.gov.

SUPPLEMENTARY INFORMATION:

Background. The National Climate Assessment (NCA) is being conducted under the auspices of the U.S. Global Change Research Program (USGCRP), pursuant to the Global Change Research Act of 1990, Section 106, which requires that: “On a periodic basis (not less frequently than every 4 years), the Council [the National Science and Technology Council], through the Committee [the Global Change Research Committee], shall prepare and submit to the President and Congress an assessment which—

1. Integrates, evaluates, and interprets the findings of the [USGCR] Program and discusses the scientific uncertainties associated with such findings;

2. Analyzes the effects of global change and the natural environment, agriculture, energy production and use, land and water resources, transportation, human health and welfare, human social systems, and biological diversity; and

3. Analyzes current trends in global change, both human-induced and natural, and projects major trends for the subsequent 25 to 100 years.”

Previous NCA reports have been built largely around Federal agency-led studies and technical reports and have primarily drawn on the peer-reviewed literature, but have also in special cases included unique data collections or technical inputs from various outside sources. These inputs, including the agency-led Synthesis and Assessment Products (2006-2009), have informed the Federal advisory committees that produced integrated, comprehensive NCA reports in 2000 and 2009. With this notice, the National Assessment Development and Advisory Committee (NCADAC) is specifically seeking contributions of technical inputs and/or offers of assessment capacity from non-Federal sources.

Although the 2013 NCA report and subsequent reports will continue to depend heavily on Federal agency leadership and corresponding technical reports, the NCADAC recognizes and seeks to leverage the important and growing distributed science capabilities and core competencies across the U.S. Indeed, it is a goal of the NCA process to increase assessment capacity both within and outside of the Federal government. Expertise within state and local governments, non-governmental organizations, impacted communities, professional societies, and private industry represent currently untapped assets and diverse scientific and technical perspectives, especially as they relate to the value of climate and global change information for decision making. Managing and reconciling such diverse viewpoints will not be easy, but ultimately, if done correctly and well, will result in future NCA reports that are better informed and more useful for decision makers both inside and outside of Federal government. The inputs requested here will become a resource to be considered by the NCADAC and should not be confused with the chapters of the NCA report itself. All inputs received, including both technical inputs and offers of assessment capacity, will be made available to the NCADAC. The USGCRP cannot arrange for or provide funding to support the work of teams that express interest in providing inputs to the NCA.

A full draft of the NCA report is anticipated by mid-2012, so that scientific and subject-matter experts and the broader public will have sufficient time to review the draft and provide comments to the NCADAC on its content. A full year is planned to review and revise the report, with a planned release in mid-2013. Technical inputs should be provided well in advance of these deadlines, with target dates for activities and inputs as follows:

• Now-Summer 2011: Expressions of interest; Initial work plans.

• Now-Fall 2011: Teams conduct activities (workshops, literature reviews, modeling runs, etc.).

• December 2011-February 1, 2012: Initial inputs, including draft reports.

• March 1, 2012: Final inputs, including full reports.

• After March 1, 2012: Continued development and delivery of ongoing assessment capacity.

Teams are encouraged to provide their inputs as quickly as possible (i.e., ahead of these target dates), to facilitate review by the NCADAC. Failure to provide inputs in a timely way means that the information may not be considered in the preparation of the 2013 report, although it could still be considered with respect to subsequent assessment products or be made available online as an NCA resource if documentation requirements have been met.

For more information on the NCA process, including the strategic plan, proposed report outline, and information about the NCADAC, please visit http://assessment.globalchange.gov.

Request for Expressions of Interest. Teams of experts and/or individuals in climate-related fields (“teams”) are invited to submit expressions of interest (EOI) in providing technical inputs and/or offering assessment capacity (collectively “inputs”) on one or more topics related to National Climate Assessment regional, sectoral, and cross-cutting topics proposed for the 2013 report and to the ongoing NCA process. The full list of topics proposed for the report and information about the ongoing NCA process is available from http://www.globalchange.gov/what-we-do/assessment/backgroundprocess.

Teams are encouraged to maximize transparency, openness, and information quality in their inputs. Only inputs centered on documented evidence, expert elicitation, and defensible scientific foundations are likely to be considered by the NCADAC. Peer reviewed literature and public data sources should be cited to the maximum extent feasible. Any data that are used in these inputs need to be publicly available, the analyses and approaches should be documented, and the conclusions able to be confirmed by independent scientific evaluation processes. Ultimately, such inputs will help populate an online database of NCA-related activities and products, which will be made available to the NCADAC and to the general public. Teams are encouraged to also publish their inputs via other methods (e.g., in scientific or technical journals).

Teams interested in providing inputs to the NCA are encouraged to review the “Potential Technical Inputs and Assessment Capacities” and “Suggested Best Practices” available online at http://www.globalchange.gov/what-we-do/assessment/backgroundprocess/notices and to prepare a short EOI (up to but not exceeding two pages, plus a list of key participants and affiliations) describing their anticipated inputs. All EOIs submitted in response to this notice must include a primary point of contact and contact information (phone number, mailing address, e-mail address, Web site if applicable, institutional affiliation(s) if applicable). In addition, it is recommended that EOIs include:

• NCA topic(s) of interest, including

○ Scope and specific range of issues to be addressed (reference NCA report outline topics and/or NCA objectives).

○ Spatial and temporal scales as appropriate.

○ Plans for developing and/or using scenarios that will frame the analysis.

• A short description of the specific input(s) that the team intends to provide (see “Potential Technical Inputs and Assessment Capacities” available online at http://www.globalchange.gov/what-we-do/assessment/backgroundprocess/notices), including the ability to provide adequate resources to support the creation of these inputs in a timely manner

• Background information about the team and sponsoring organization(s)

○ Team members.

▪ Names and affiliations.

▪ Short biographies (preferably 1 paragraph each, no more than 1 page per person) of key team members, including areas of expertise, previous assessment experience, and current role in the climate/global change arena.

○ Sponsoring organization(s), if appropriate.

▪ Short history and mission.

▪ Current role in the climate/global change arena.

▪ Number and type of members, stakeholders, or general public served by the organization.

▪ Typical scale(s) at which the organization works and/or has expertise (international, national, regional/state, or local).

▪ Type of organization (government, private sector, non-profit, academia, etc.).

EOIs should be submitted via e-mail to Emily Therese Cloyd, NCA Public Participation and Engagement Coordinator, at ecloyd@usgcrp.gov. Ms. Cloyd will direct EOIs, as appropriate, to NCA coordinators for the relevant topics and to appropriate members of the NCADAC. Teams may also contact Ms. Cloyd with additional questions or comments about the NCA report and process.

EOIs may be submitted at any time and will be reviewed on a rolling basis; teams should expect acknowledgement of receipt of their EOI within two weeks of submission. EOIs will be shared with the NCADAC. EOIs will not be used as pre-approval mechanisms for the submission of inputs; any feedback provided on submitted EOIs will be primarily aimed at ensuring inputs will be responsive to the needs of the NCA. EOIs will allow the NCADAC to anticipate contributions from teams and facilitate coordination and cooperation across teams that express interest in similar topics. The purpose of the EOIs and any subsequent involvement of NCA staff and the NCADAC is not to constrain the efforts of teams, but rather to improve coverage, identify gaps, and reduce redundancies amongst all of the inputs. Ultimately, the inputs remain the work of the teams that produce them and will be presented as such to the NCADAC.

Dated: July 6, 2011.
Terry Bevels,
Deputy Chief Financial Officer/Chief Administrative Officer, Office of Oceanic and Atmospheric Research, National Oceanic and Atmospheric Administration.

[FR Doc. 2011-17379 Filed 7-12-11; 8:45 am]

BILLING CODE 3510-KD-P